DEPARTMENT OF HEALTH AND HUMAN SERVICES

Centers for Disease Control and Prevention

Interagency Committee on Smoking and Health Meeting: Correction

ACTION: Notice; correction.

Name: Interagency Committee on Smoking and Health.

Date and Time: November 6, 2002, 9 a.m. to 4 p.m.

Correction

In the Federal Register of September 5, 2002, Volume 67, Number 172, Notices, Pages 56844-56845, under “PLACE” Should read: Hyatt Regency Bethesda, One Bethesda Metro Center, Bethesda, MD, 20814, telephone 301/657-1234 or fax 301/657-6453.

Correction

In the Federal Register of September 5, 2002, Volume 67, Number 172, Notices, Pages 56844-56845, under “DATE and TIME” Should read: November 6, 2002, 9 a.m. to 4 p.m.

Contact Person for More Information: Ms. Monica L. Swann, Committee Management Specialist, Interagency Committee on Smoking and Health, Office on Smoking and Health, NCCDPHP, CDC, 200 Independence Avenue, SW., Room 317B, Washington, DC, 20201, telephone (202) 205-8500.

The Director, Management Analysis and Services Office, has been delegated the authority to sign Federal Register notices pertaining to announcements of meetings and other committee management activities, for both the Centers for Disease Control and Prevention and the Agency for Toxic Substances and Disease Registry.

Dated: October 23, 2002.
John Burckhardt,
Acting Director, Management Analysis and Services Office, Centers for Disease Control and Prevention.

[FR Doc. 02-27432 Filed 10-28-02; 8:45 am]

BILLING CODE 4163-18-P